DEPARTMENT OF THE INTERIOR

National Park Service

[NPS-WASO-NAGPRA-NPS0033921; PPWOCRADN0-PCU00RP14.R50000]

Notice of Intent To Repatriate Cultural Items: Walsh Gallery, Seton Hall University, South Orange, NJ

AGENCY: National Park Service, Interior.

ACTION: Notice.

SUMMARY: The Walsh Gallery at Seton Hall University, in consultation with the appropriate Indian Tribes or Native Hawaiian organizations, has determined that the cultural items listed in this notice meet the definition of unassociated funerary objects. Lineal descendants or representatives of any Indian Tribe or Native Hawaiian organization not identified in this notice that wish to claim these cultural items should submit a written request to the Walsh Gallery. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to the Walsh Gallery at the address in this notice by June 17, 2022.

FOR FURTHER INFORMATION CONTACT: Laura Hapke, Collections Manager, Walsh Gallery, University Libraries, Seton Hall University, 400 South Orange Avenue, South Orange, NJ 07079, telephone (973) 275-2165, email laura.hapke@shu.edu.

SUPPLEMENTARY INFORMATION: Notice is here given in accordance with the Native American Graves Protection and Repatriation Act (NAGPRA), 25 U.S.C. 3005, of the intent to repatriate cultural items under the control of the Walsh Gallery, Seton Hall University, South Orange, NJ, that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

Sometime in the 1950s, 70 cultural items were removed from Aakawaxung Munahanung (Island Protected from the Wind), an archeological site in Richmond County, NY. Staff at the Walsh Gallery believe the items were initially collected by an amateur archeologist. They were either collected by Brian Templeton or transferred to his care sometime before June of 1961. Seton Hall University purchased the unassociated funerary objects from Brian Templeton in 1961. In 2015, care of the University's archeological collection was transferred to the Walsh Gallery. The 70 unassociated funerary objects are one brass buckle, one triangular point, one side notched point, one corner notched point, one lobate point, one blank for a triangular notched point, three leaf shaped points, one shell, two jasper knives, one end scraper, one pebble chopper, one pebble hammerstone, one inner core of whelk, and 54 pottery fragments.

Determinations Made by the Walsh Gallery, Seton Hall University

Officials of the Walsh Gallery, Seton Hall University have determined that:

• Pursuant to 25 U.S.C. 3001(3)(B), the 70 cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and the Delaware Nation, Oklahoma; Delaware Tribe of Indians; and the Stockbridge Munsee Community, Wisconsin (hereafter referred to as “The Tribes”).

Additional Requestors and Disposition

Lineal descendants or representatives of any Indian Tribe or Native Hawaiian organization not identified in this notice that wish to claim these cultural items should submit a written request with information in support of the claim to Laura Hapke, Walsh Gallery, University Libraries, Seton Hall University, 400 South Orange Avenue, South Orange, NJ 07079, telephone (973) 275-2165, email laura.hapke@shu.edu, by June 17, 2022. After that date, if no additional claimants have come forward, transfer of control of the unassociated funerary objects to The Tribes may proceed.

The Walsh Gallery, Seton Hall University is responsible for notifying The Tribes that this notice has been published.

Dated: May 10, 2022.
Melanie O'Brien,
Manager, National NAGPRA Program.

[FR Doc. 2022-10646 Filed 5-17-22; 8:45 am]

BILLING CODE 4312-52-P